FEDERAL COMMUNICATIONS COMMISSION

47 CFR Part 73

[DA 03-1122; MB Docket No. 03-98; RM-10688]

Radio Broadcasting Services; Sellersburg and Seymour, IN

AGENCY: Federal Communications Commission.

ACTION: Proposed rule.

SUMMARY: This document requests comment on a petition for rulemaking filed on behalf of INDY LICO, Inc., licensee of Station WGRL(FM), Channel 230A, Noblesville, Indiana, and S.C.I. Broadcasting, Inc., licensee of Station WQKC(FM), Channel 229B, Seymour, Indiana, requesting substitution of Channel 230A for Channel 229B at Seymour, Indiana, and the reallotment of Channel 230A from Seymour to Sellersburg, Indiana, as the community's first local transmission service, and the modification of the license for Station WQKC(FM) to reflect the changes. This petition was originally filed as an amended proposal in MM Docket 01-143 which was terminated. Channel 230A can be allotted to Sellersburg at a site 11.5 kilometers (7.1 miles) south of the community at coordinates 38-17-41 NL and 85-45-07 WL.

DATES: Comments must be filed on or before July 21, 2003, and reply comments on or before August 5, 2003.

ADDRESSES: Secretary, Federal Communications Commission, Washington, DC 20554. In addition to filing comments with the FCC, interested parties should serve the petitioners, as follows: Mark N. Lipp, Esq., J. Thomas Nolan, Esq., Vinson & Elkins L.L.P., The Willard Office Building, 1455 Pennsylvania Avenue, NW., Washington, DC 20004-1008 (Counsel to Petitioners).

FOR FURTHER INFORMATION CONTACT: Victoria M. McCauley, Media Bureau, (202) 418-2180.

SUPPLEMENTARY INFORMATION: This is a synopsis of the Commission's Notice of Proposed Rule Making, MB Docket No. 03-98, adopted May 28, 2003, and released May 30, 2003. The full text of this Commission decision is available for inspection and copying during normal business hours in the FCC's Reference Information Center at Portals II, CY-A257, 445 Twelfth Street, SW., Washington, DC. This document may also be purchased from the Commission's duplicating contractors, Qualex International, Portals II, 445 12th Street, SW., Room CY-B402, Washington, DC 20554, telephone 202-863-2893, or via e-mail qualexint@aol.com.

Provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Indiana, is amended by adding Sellersburg, Channel 230A and removing Seymour, Channel 229B.

Federal Communications Commission.
John A. Karousos,
Assistant Chief, Audio Division, Media Bureau.

[FR Doc. 03-15070 Filed 6-13-03; 8:45 am]

BILLING CODE 6712-01-P